DEPARTMENT OF ENERGY

Federal Energy Regulatory Commission

[Docket No. RP04-321-000]

Panhandle Eastern Pipe Line Company, LLC and Panhandle Eastern Pipe Line Company, LP; Notice of Proposed Changes in FERC Gas Tariff

June 3, 2004.

Take notice that on May 28, 2004, Panhandle Eastern Pipe Line Company, LLC (Panhandle) tendered for filing as part of its FERC Gas Tariff, Third Revised Volume No. 1, the tariff sheets listed on Appendix A to the filing, to reflect a change in corporate name and corporate form.

Panhandle states that the revised tariff sheets reflect a name change that Panhandle states is planned to occur on June 30, 2004. Panhandle states on that date it plans to convert from a limited liability company to a limited partnership and change its corporate name to Panhandle Eastern Pipe Line Company, LP.

Panhandle states that copies of its transmittal letter and appendices have been mailed to all affected customers and interested State commissions.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1292 Filed 6-9-04; 8:45 am]

BILLING CODE 6717-01-P